DEPARTMENT OF JUSTICE

Notice of Lodging of Proposed Consent Decree Under The Clean Water Act

On November 2, 2020, the Department of Justice lodged a proposed Consent Decree with the United States District Court for the Northern District of Alabama in the lawsuit entitled United States and Alabama Department of Environmental Management v. Kronospan, LLC, Civil Action No. 1:20-cv-01720—ACA.

The Complaint alleges violations of the pretreatment regulations under the Clean Water Act (“CWA”) at Kronospan's wood processing facility in Eastaboga, Calhoun County Alabama. The State of Alabama, Department of Environmental Management (“ADEM”) is a co-plaintiff in the civil action, alleging violations of the Alabama Water Pollution Control Act. The proposed Consent Decree requires the defendant to perform injunctive relief and pay a $900,000 civil penalty which will be split evenly between the United States and ADEM. In addition, the defendant will perform a project to install an evaporation system to reduce the frequency and total annual volume of process wastewater currently being treated by the Facility's pretreatment system and discharged to the publicly owned treatment works. The cost of the project is about $7.7 million.

The publication of this notice opens a period for public comment on the proposed Consent Decree. Comments should be addressed to the Assistant Attorney General, Environment and Natural Resources Division, and should refer to United States and Alabama Department of Environmental Management v. Kronospan, LLC, D.J. Ref. No. 90-5-1-1-10934. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $45.50 (25 cents per page reproduction cost) payable to the United States Treasury.

Lori Jonas,
Assistant Section Chief, Environmental Enforcement Section, Environment and Natural Resources Division.

[FR Doc. 2020-24748 Filed 11-5-20; 8:45 am]

BILLING CODE 4410-15-P